DEPARTMENT OF TRANSPORTATION

Federal Railroad Administration

[Docket Number FRA-2018-0076]

Petition for Extension of Waiver of Compliance

Under part 211 of title 49 Code of Federal Regulations (CFR), this document provides the public notice that on July 13, 2023, Canadian National Railway Company (CN) petitioned the Federal Railroad Administration (FRA) for an extension of a waiver of compliance from certain provisions of the Federal railroad safety regulations contained at 49 CFR part 220, Railroad Communications. The relevant Docket Number is FRA-2018-0076.

Specifically, CN requests continued relief from § 220.305, Use of personal electronic devices, and § 220.307, Use of railroad-supplied electronic devices, to permit its employees to use certain fitness trackers while conducting their daily duties. The request pertains to the Virgin Pulse Max Pedometer and/or Virgin Pulse GoZone Pedometer. CN also requests to include in the relief “similar devices from other manufacturers that are solely monitoring devices without the capability to make or receive phone calls, send or receive texts, and are not capable of hosting independent games or programs.” CN states the risk of distraction is substantially minimized based on the devices' limited functionality and further explains that the devices are part of “an important well-being program” to “support improved health outcomes” for employees.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at https://www.regulations.gov. Follow the online instructions for submitting comments.

Communications received by December 26, 2023 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-23564 Filed 10-24-23; 8:45 am]

BILLING CODE 4910-06-P